DEPARTMENT OF ENERGY

Federal Energy Regulatory Commission

Combined Notice of Filings #2

Take notice that the Commission received the following electric rate filings:

Docket Numbers: ER10-1728-013; ER16-930-007; ER13-1544-010; ER11-2036-013; ER19-1597-002.

Applicants: The Dayton Power and Light Company, AES Ohio Generation, LLC, AES ES Tait, LLC, AES Laurel Mountain, LLC, AES Integrated Energy, LLC.

Description: Triennial Market Power Update for the Northeast Region of AES MBR Affiliates, et al.

Filed Date: 12/20/19.

Accession Number: 20191220-5173.

Comments Due: 5 p.m. ET 2/18/20.

Docket Numbers: ER20-405-001.

Applicants: Golden Spread Electric Cooperative, Inc.

Description: Tariff Amendment: Amendment ER20-405 Filing to be effective 1/1/2020.

Filed Date: 12/20/19.

Accession Number: 20191220-5285.

Comments Due: 5 p.m. ET 12/30/19.

Docket Numbers: ER20-663-000.

Applicants: New York Independent System Operator, Inc.

Description: § 205(d) Rate Filing: NYISO 205 filing of CEE tariff revisions to be effective 2/19/2020.

Filed Date: 12/20/19.

Accession Number: 20191220-5208.

Comments Due: 5 p.m. ET 1/10/20.

Docket Numbers: ER20-664-000.

Applicants: California Independent System Operator Corporation.

Description: § 205(d) Rate Filing: 2019-12-20 Nodal Pricing Model Agreement with Pacificorp to be effective 3/1/2020.

Filed Date: 12/20/19.

Accession Number: 20191220-5309.

Comments Due: 5 p.m. ET 1/10/20.

Docket Numbers: ER20-665-000.

Applicants: Midcontinent Independent System Operator, Inc.

Description: § 205(d) Rate Filing: 2019-12-20_Optimal Achievable Output filing to be effective 3/1/2020.

Filed Date: 12/20/19.

Accession Number: 20191220-5312.

Comments Due: 5 p.m. ET 1/10/20.

Docket Numbers: ER20-666-000.

Applicants: Gulf Power Company.

Description: § 205(d) Rate Filing: Florida Public Utilities Company NITSA/NOA to be effective 1/1/2020.

Filed Date: 12/20/19.

Accession Number: 20191220-5313.

Comments Due: 5 p.m. ET 1/10/20.

Docket Numbers: ER20-667-000.

Applicants: Gulf Power Company.

Description: Tariff Cancellation: Cancellation of SA No. 3 FPU NITSA/NOA to be effective 1/1/2020.

Filed Date: 12/20/19.

Accession Number: 20191220-5315.

Comments Due: 5 p.m. ET 1/10/20.

Docket Numbers: ER20-668-000.

Applicants: Midcontinent Independent System Operator, Inc.

Description: § 205(d) Rate Filing: 2019-12-20_Module D Remove Physical Withholding Exemption filing to be effective 3/1/2020.

Filed Date: 12/20/19.

Accession Number: 20191220-5319.

Comments Due: 5 p.m. ET 1/10/20.

Docket Numbers: ER20-669-000.

Applicants: Midcontinent Independent System Operator, Inc.

Description: § 205(d) Rate Filing: 2019-12-20_Revisions to Enhance Module D filing to be effective 3/1/2020.

Filed Date: 12/20/19.

Accession Number: 20191220-5326.

Comments Due: 5 p.m. ET 1/10/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2019.
Kimberly D. Bose,
Secretary.

[FR Doc. 2019-28124 Filed 12-27-19; 8:45 am]

BILLING CODE 6717-01-P